NUCLEAR REGULATORY COMMISSION

10 CFR Parts 70, 71, and 73

RIN 3150-AH09

Filing and Notification Requirements for the Shipments of Certain Radioactive Materials

AGENCY: Nuclear Regulatory Commission.

ACTION: Final rule; correction.

SUMMARY: This document corrects a final rule appearing in the Federal Register on March 26, 2003 (68 FR 14528), that revised filing and advance notification requirements for the shipments of certain radioactive materials. This action corrects erroneous references to the organizational listing, “Director, Division of Nuclear Safety, Office of Nuclear Security and Incident Response.”

EFFECTIVE DATE: March 26, 2003.

FOR FURTHER INFORMATION CONTACT: Kim Karcagi, Office of Nuclear Material Safety and Safeguards, U.S. Nuclear Regulatory Commission, Washington, DC 20555-0001, telephone (301) 415-6701, e-mail: kxk2@nrc.gov, or Philip Brochman, Office of Nuclear Security and Incident Response, U.S. Nuclear Regulatory Commission, Washington, DC 20555-0001, telephone (301) 415-6557, e-mail: PGB@nrc.gov.

SUPPLEMENTARY INFORMATION: The NRC published a final rule in the Federal Register on March 26, 2003 (68 FR 14528). This document is necessary to correct the references, “Director, Office of Nuclear Security and Incident Response, Division of Nuclear Security, to “Director, Division of Nuclear Security, Office of Nuclear Security and Incident Response.” The erroneous references appear in each part and various sections of the March 26, 2003, final rule.

§ 70.20b [Corrected]

1. In § 70.20b(f)(1), (f)(2)(ii), (f)(2)(iii), and (g)(1), the words “Director, Office of Nuclear Security and Incident Response, Division of Nuclear Security,” are corrected to read “Director, Division of Nuclear Security, Office of Nuclear Security and Incident Response”.

§ 71.97 [Corrected]

2. In § 71.97(c)(1) and (f)(1), the words “Director, Office of Nuclear Security and Incident Response, Division of Nuclear Security” are corrected to read “Director, Division of Nuclear Security, Office of Nuclear Security and incident Response”.

§ 73.26 [Corrected]

3. In § 73.26(i)(6), the words “Director, Office of Nuclear Security and Incident Response, Division of Nuclear Security” are corrected to read “Director, Division of Nuclear Security, Office of Nuclear Security and Incident Response.”

§ 73.27 [Corrected]

4. In § 73.27(b), the words “Director, Office of Nuclear Security and Incident Response, Division of Nuclear Security” are corrected to read “Director, Division of Nuclear Security, Office of Nuclear Security and Incident Response” wherever they appear.

§ 73.67 [Corrected]

5. In § 73.67(e)(7)(ii), the words “Director, Office of Nuclear Security and Incident Response, Division of Nuclear Security” are corrected to read “Director, Division of Nuclear Security, Office of Nuclear Security and Incident Response.”

§ 73.71 [Corrected]

6. In § 73.71(a)(4), the words “Director, Office of Nuclear Security and Incident Response, Division of Nuclear Security” are corrected to read “Director, Division of Nuclear Security, Office of Nuclear Security and Incident Response”.

§ 73.72 [Corrected]

7. In § 73.72(a), the words “Director, Office of Nuclear Security and Incident Response, Division of Nuclear Security,” are corrected to read “Director, Division of Nuclear Security, Office of Nuclear Security and Incident Response” wherever they appear.

§ 73.73 [Corrected]

8. In § 73.73(a)(1) and (b), the words, “Director, Office of Nuclear Security and Incident Response, Division of Nuclear Security,” are corrected to read “Director, Division of Nuclear Security, Office of Nuclear Security and Incident Response”.

§ 73.74 [Corrected]

9. In § 73.74(a)(1) and (b), the words “Director, Office of Nuclear Security and Incident Response, Division of Nuclear Security” are corrected to read “Director, Division of Nuclear Security, Office of Nuclear Security and Incident Response”.

Dated in Rockville, Maryland, this 28th day of April, 2003.
For the Nuclear Regulatory Commission.
Michael T. Lesar,
Chief, Rules and Directives Branch, Division of Administrative Services, Office of Administration.

[FR Doc. 03-10860 Filed 5-2-03; 8:45 am]

BILLING CODE 7590-01-P